DEPARTMENT OF TRANSPORTATION

Federal Aviation Administration

14 CFR Part 39

[Docket No. FAA-2013-0796; Directorate Identifier 2013-NM-111-AD]

RIN 2120-AA64

Airworthiness Directives; The Boeing Company Airplanes

AGENCY: Federal Aviation Administration (FAA), DOT.

ACTION: Notice of proposed rulemaking (NPRM).

SUMMARY: We propose to supersede airworthiness directive (AD) 2013-07-07, which applies to all The Boeing Company Model 737-600, -700, -700C, -800, -900, and -900ER series airplanes. AD 2013-07-07 requires inspecting to determine the part number of the attach pins of the horizontal stabilizer rear spar, and replacing certain attach pins. Since we issued AD 2013-07-07, we received inquiries from affected operators regarding the parts installation limitation and prohibition, and re-installation of certain attach pins that were removed for inspection. This proposed AD would clarify the parts installation limitation and prohibition, and would add a new requirement for certain airplanes on which certain attach pins were installed. We are proposing this AD to prevent premature failure of the attach pins, which could cause reduced structural integrity of the horizontal stabilizer to fuselage attachment, resulting in loss of control of the airplane.

DATES: We must receive comments on this proposed AD by November 12, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Nancy Marsh, Aerospace Engineer, Airframe Branch, ANM-120S, FAA, Seattle Aircraft Certification Office, 1601 Lind Avenue SW., Renton, WA 98057-3356; phone: 425-917-6440; fax: 425-917-6590; email: Nancy.Marsh@faa.gov.

SUPPLEMENTARY INFORMATION:

Comments Invited

We invite you to send any written relevant data, views, or arguments about this proposed AD. Send your comments to an address listed under the ADDRESSES section. Include “Docket No. FAA-2013-0796; Directorate Identifier 2013-NM-111-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On March 28, 2013, we issued AD 2013-07-07, Amendment 39-17411 (78 FR 22182, April 15, 2013) (“AD 2013-07-07”), for all Model 737-600, -700, -700C, -800, -900, and -900ER series airplanes. AD 2013-07-07 requires inspecting to determine the part number of the attach pins of the horizontal stabilizer rear spar, and replacing certain attach pins. For airplanes having line numbers 1 through 3534, AD 2013-07-07 also prohibited installing attach pins having part number (P/N) 180A1612-3 or 180A1612-4 that have 56,000 or greater flight cycles, unless certain actions had been done. AD 2013-07-07 resulted from reports of an incorrect procedure used to apply the wear and corrosion protection surface coating to attach pins of the horizontal stabilizer rear spar. We issued AD 2013-07-07 to prevent premature failure of the attach pins, which could cause reduced structural integrity of the horizontal stabilizer to fuselage attachment, resulting in loss of control of the airplane.

Actions Since AD 2013-07-07, Amendment 39-17411 (78 FR 22182, April 15, 2013) Was Issued

Since we issued AD 2013-07-07, Amendment 39-17411 (78 FR 22182, April 15, 2013), we have received inquiries from affected operators regarding the parts installation limitation and prohibition (i.e., paragraph (i)(1)) of AD 2013-07-07, and re-installation of certain attach pins of the horizontal stabilizer rear spar removed for inspection during maintenance.

We have re-reviewed our response to commenter Japan Airlines (JAL) in AD 2013-07-07, Amendment 39-17411 (78 FR 22182, April 15, 2013), and have determined it is necessary to provide further clarification. JAL requested approval of re-installation of any non-discrepant attach pins having P/N 180A1612-3 or 180A1612-4 removed for inspection during maintenance.

We clarify that the term “install,” as used in AD 2013-07-07, Amendment 39-17411 (78 FR 22182, April 15, 2013), can be interpreted as meaning “replace” while remaining within the intent of AD 2013-07-07. That is, by simply re-installing non-discrepant attach pins having P/N 180A1612-3 or 180A1612-4 on the same airplane from which they were removed, the operator is not “installing” a new or different attach pin. Therefore, no alternative method of compliance is necessary to re-install non-discrepant attach pins having P/N 180A1612-3 or 180A1612-4 on the same airplane from which they were removed during maintenance not associated with AD 2013-07-07.

To clarify paragraph (i)(1) of AD AD 2013-07-07, Amendment 39-17411 (78 FR 22182, April 15, 2013), for airplanes having line numbers 1 through 3534, we have removed that paragraph and have added new paragraph (k) to this proposed AD. New paragraph (k) of this proposed AD would provide for installation of a attach pin of the horizontal stabilizer rear spar having P/N 180A1612-3 or 180A1612-4, provided it is replaced with an attach pin having P/N 180A1612-7 or 180A1612-8 prior to the accumulation of 56,000 total flight cycles on the pin.

In addition, for those same airplanes, paragraph (i)(1) of AD 2013-07-07, Amendment 39-17411 (78 FR 22182, April 15, 2013), inadvertently allowed installation of an attach pin having P/N 180A1612-3 or 180A1612-4, even though the attach pin had been replaced with an attach pin having P/N 180A1612-7 or 180A1612-8, as required by paragraph (h) of AD 2013-07-07. In light of this, we have added new paragraph (l) to this proposed AD for those airplanes on which attach pins having P/N 180A1612-3 or 180A1612-4 were installed. New paragraph (l) of this proposed AD would require replacement of those attach pins with attach pins having P/N 180A1612-7 or 180A1612-8 prior to the accumulation of 56,000 total flight cycles on the attach pin, or within 1,000 flight cycles on the airplane after the effective date of this AD, whichever occurs later.

FAA's Determination

We are proposing this AD because we evaluated all the relevant information and determined the unsafe condition described previously is likely to exist or develop in other products of the same type design.

Proposed AD Requirements

This proposed AD would retain certain requirements of AD 2013-07-07, Amendment 39-17411 (78 FR 22182, April 15, 2013). This proposed AD would clarify the parts installation limitation and prohibition, and would add a new requirement for certain airplanes on which certain attach pins were installed.

Costs of Compliance

We estimate that this proposed AD affects 1,050 airplanes of U.S. registry. The new proposed requirements add no significant economic burden over that specified in AD 2013-07-07, Amendment 39-17411 (78 FR 22182, April 15, 2013). Those costs are repeated for the convenience of affected operators, as follows:

Estimated Costs
Action | Labor cost | Parts cost | Cost per product | Cost on U.S. operators
Inspection and attach pin replacement [retained actions from AD 2013-07-07, Amendment 39-17411 (78 FR 22182, April 15, 2013)] | 39 work-hours × $85 per hour = $3,315 | Up to $6,312 | Up to $9,627 | Up to $10,108,350.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-07-07, Amendment 39-17411 (78 FR 22182, April 15, 2013), and adding the following new AD:

The Boeing Company: Docket No. FAA-2013-0796; Directorate Identifier 2013-NM-111-AD.

(a) Comments Due Date

The FAA must receive comments on this AD action by November 12, 2013.

(b) Affected ADs

(1) This AD supersedes AD 2013-07-07, Amendment 39-17411 (78 FR 22182, April 15, 2013).

(2) This AD affects certain requirements of AD 2004-05-19, Amendment 39-13514 (69 FR 10921, March 9, 2004; corrected April 13, 2004 (69 FR 19313).

(c) Applicability

(1) This AD applies to all The Boeing Company Model 737-600, -700, -700C, -800, -900, and -900ER series airplanes, certificated in any category.

(2) Installation of Supplemental Type Certificate (STC) ST00830SE (http://rgl.faa.gov/Regulatory_and_Guidance_Library/rgstc.nsf/0/408E012E008616A7862578880060456C?OpenDocument&Highlight=st00830se) does not affect the ability to accomplish the actions required by this AD. Therefore, for airplanes on which STC ST00830SE is installed, a “change in product” alternative method of compliance (AMOC) approval request is not necessary to comply with the requirements of 14 CFR 39.17. For all other AMOC requests, the operator must request approval for an AMOC in accordance with the procedures specified in paragraph (m) of this AD.

(d) Subject

Joint Aircraft System Component (JASC)/Air Transport Association (ATA) of America Code 55, Stabilizers.

(e) Unsafe Condition

This AD was prompted by reports of an incorrect procedure used to apply the wear and corrosion protection surface coating to attach pins of the horizontal stabilizer rear spar. We are issuing this AD to prevent premature failure of the attach pins, which could cause reduced structural integrity of the horizontal stabilizer to fuselage attachment, resulting in loss of control of the airplane.

(f) Compliance

Comply with this AD within the compliance times specified, unless already done.

(g) Retained Part Number Inspection

This paragraph restates the requirements of paragraph (g) of AD 2013-07-07, Amendment 39-17411 (78 FR 22182, April 15, 2013). For airplanes having line numbers 1 through 3534 inclusive: Before the accumulation of 56,000 total flight cycles, or within 3,000 flight cycles after May 20, 2013 (the effective date of AD 2013-07-07), whichever occurs later, inspect to determine the part number of the attach pins of the horizontal stabilizer rear spar. A review of airplane maintenance records is acceptable in lieu of this inspection if the part number of the attach pin can be conclusively determined from that review.

(h) Retained Replacement

This paragraph restates the requirements of paragraph (h) of AD 2013-07-07, Amendment 39-17411 (78 FR 22182, April 15, 2013). If, during the inspection required by paragraph (g) of this AD, any horizontal stabilizer rear spar attach pin has P/N 180A1612-3 or 180A1612-4, prior to the accumulation of 56,000 total flight cycles on the pin, or within 3,000 flight cycles after May 20, 2013 (the effective date of AD 2013-07-07), whichever occurs later, replace with a new attach pin having P/N 180A1612-7 or 180A1612-8, respectively, in accordance with the Accomplishment Instructions of Boeing Special Attention Service Bulletin 737-55-1093, dated April 9, 2012.

(i) Retained Parts Installation Prohibition

This paragraph restates the requirements of paragraph (i)(2) of AD 2013-07-07, Amendment 39-17411 (78 FR 22182, April 15, 2013). For airplanes having line numbers 3535 and subsequent: As of May 20, 2013 (the effective date of AD 2013-07-07), no person may install an attach pin of the horizontal stabilizer rear spar having P/N 180A1612-3 or 180A1612-4 on any airplane.

(j) Retained Terminating Action for AD 2004-05-19, Amendment 39 13514 (69 FR 10921, March 9, 2004; Corrected April 13, 2004 (69 FR 19313))

This paragraph restates the provisions of paragraph (j) of AD 2013-07-07, Amendment 39-17411 (78 FR 22182, April 15, 2013). Accomplishment of the actions required by paragraphs (g) and (h) of this AD terminates the requirements of paragraphs (a), (b), (c), (d), and (e) of AD 2004-05-19, Amendment 39-13514 (69 FR 10921, March 9, 2004; corrected April 13, 2004 (69 FR 19313)), for the rear spar attach pins only.

(k) New Parts Installation Limitation

For airplanes having line numbers 1 through 3534 inclusive: As of the effective date of this AD, an attach pin of the horizontal stabilizer rear spar having P/N 180A1612-3 or 180A1612-4 may be installed on an airplane, provided it is replaced with an attach pin having P/N 180A1612-7 or 180A1612-8, as applicable, prior to the accumulation of 56,000 total flight cycles on the attach pin. The replacement must be done in accordance with the Accomplishment Instructions of Boeing Special Attention Service Bulletin 737-55-1093, dated April 9, 2012.

(l) New Attach Pin Replacement

For airplanes having line numbers 1 through 3534 inclusive on which an attach pin of the horizontal stabilizer rear spar having P/N 180A1612-7 or 180A1612-8 has been replaced with an attach pin having P/N 180A1612-3 or 180A1612-4 before the effective date of this AD: Prior to the accumulation of 56,000 total flight cycles on the pin, or within 1,000 flight cycles on the airplane after the effective date of this AD, whichever occurs later, replace the attach pin having P/N 180A1612-3 or 180A1612-4 with an attach pin having P/N 180A1612-7 or 180A1612-8, as applicable, in accordance with the Accomplishment Instructions of Boeing Special Attention Service Bulletin 737-55-1093, dated April 9, 2012.

(m) Alternative Methods of Compliance (AMOCs)

(1) The Manager, Seattle Aircraft Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n)(1) of this AD. Information may be emailed to 9-ANM-Seattle-ACO-AMOC-Requests-faa.gov.

(2) Before using any approved AMOC, notify your appropriate principal inspector, or lacking a principal inspector, the manager of the local flight standards district office/certificate holding district office.

(3) An AMOC that provides an acceptable level of safety may be used for any repair required by this AD if it is approved by the Boeing Commercial Airplanes ODA that has been authorized by the Manager, Seattle ACO, to make those findings. For a repair method to be approved, the repair must meet the certification basis of the airplane, and the approval must specifically refer to this AD.

(4) AMOCs approved previously in accordance with AD 2013-07-07, Amendment 39-17411 (78 FR 22182, April 15, 2013), are approved as AMOCs for the corresponding provisions of this AD.

(n) Related Information

(1) For more information about this AD, contact Nancy Marsh, Aerospace Engineer, Airframe Branch, ANM-120S, FAA, Seattle Aircraft Certification Office, 1601 Lind Avenue SW., Renton, WA 98057-3356; phone: 425-917-6440; fax: 425-917-6590; email: Nancy.Marsh@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on September 17, 2013.
Ross Landes,
Acting Manager, Transport Airplane Directorate, Aircraft Certification Service.

[FR Doc. 2013-23274 Filed 9-24-13; 8:45 am]

BILLING CODE 4910-13-P